DEPARTMENT OF COMMERCE

Census Bureau

National Advisory Committee

AGENCY: Census Bureau, Department of Commerce.

ACTION: Notice of public virtual meeting.

SUMMARY: The Census Bureau is giving notice of a virtual meeting of the National Advisory Committee (NAC). The Committee will address policy, research, and technical issues relating to a full range of Census Bureau programs and activities, including the decennial census, demographic and economic statistical programs, field operations, and information technology. Last minute changes to the schedule are possible, which could prevent giving advance public notice of schedule adjustments. Please visit the Census Advisory Committees website at http://www.census.gov/cac for the NAC meeting information, including the agenda, and how to join the meeting.

DATES: The virtual meeting will be held on:

• Thursday, May 5, 2022, from 11:00 a.m. to 5:00 p.m. EDT, and

• Friday, May 6, 2022, from 11:00 a.m. to 5:00 p.m. EDT.

ADDRESSES: The meeting will be held via the WebEx platform at the following presentation links:

• May 5, 2022— https://uscensus.webex.com/uscensus/j.php?MTID=me3d64e29670d4725c5084cbd160ab8ab

• May 6, 2022— https://uscensus.webex.com/uscensus/j.php?MTID=m0612c4d7af229194b03d3db3c8b00d72

For audio, please call the following number: 1-888-603-9745. When prompted, please use the following Password: Census#1 and Passcode: 8154908#.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION: The NAC provides technical expertise to address Census Bureau program needs and objectives. The members of the NAC are appointed by the Director of the Census Bureau. The NAC has been established in accordance with the Federal Advisory Committee Act (title 5, United States Code, appendix 2, section 10).

All meetings are open to the public. A brief period will be set aside during the virtual meeting for public comments on May 6, 2022. Individuals with extensive questions or statements may submit them in writing to shana.j.banks@census.gov, (subject line “2022 NAC Spring Virtual Meeting Public Comment”).

Robert L. Santos, Director, Census Bureau, approved the publication of this Notice in the Federal Register.

Dated: April 1, 2022.
Sheleen Dumas,
Department PRA Clearance Officer, Office of the Chief Information Officer, Commerce Department.

[FR Doc. 2022-07356 Filed 4-6-22; 8:45 am]

BILLING CODE 3510-07-P